DEPARTMENT OF TRANSPORTATION

Federal Aviation Administration

14 CFR Part 39

[Docket No. 2002-CE-11-AD; Amendment 39-12870; AD 2002-15-01 R1]

RIN 2120-AA64

Airworthiness Directives; Diamond Aircraft Industries GmbH Models HK 36 R “Super Dimona”, HK 36 TC, HK 36 TS, HK 36 TTC, HK 36 TTC-ECO, HK 36 TTC-ECO (Restricted Category), and HK 36 TTS Sailplanes

AGENCY: Federal Aviation Administration, DOT.

ACTION: Final rule; correction.

SUMMARY: This amendment clarifies information contained in Airworthiness Directive (AD) 2002-15-01, which currently requires you to inspect the long aileron push rods in both wings for damage and modify the push rods on all Diamond Aircraft Industries GmbH (Diamond) Models H-36 “Dimona”, HK 36 R “Super Dimona”, HK 36 TC, HK 36 TS, HK 36 TTC, HK 36 TTC-ECO, HK 36 TTC-ECO (Restricted Category), and HK 36 TTS sailplanes. The Model H-36 “Dimona” sailplane has a different flight control system than the rest of the affected sailplanes. This particular flight control system makes it impossible for the Model H-36 “Dimona” sailplanes to be in compliance with AD 2002-15-01. This document deletes these sailplanes from the AD applicability. The actions specified by this AD are intended to detect and correct damage in the long aileron push control rods, which could result in failure of the aileron push rods and decreased control. Such failure could lead to aeroelastic flutter.

DATES: This AD becomes effective on September 3, 2002.

The Director of the Federal Register approved the incorporation by reference of certain publications listed in the regulations as of September 3, 2002.

ADDRESSES: You may get the service information referenced in this AD from Diamond Aircraft Industries GmbH, N.A. Otto-Strasse 5, A-2700 Wiener Neistadt, Austria; telephone: 43 2622 26 700; facsimile: 43 2622 26 780. You may view this information at the Federal Aviation Administration (FAA), Central Region, Office of the Regional Counsel, Attention: Rules Docket No. 2002-CE-11-AD, 901 Locust, Room 506, Kansas City, Missouri 64106; or at the Office of the Federal Register, 800 North Capitol Street, NW., suite 700, Washington, DC.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Discussion

What Prior Action Did FAA Take on This Subject?

We issued AD 2002-15-01, Amendment 39-12829 (67 FR 47680, July 22, 2002), in order to detect and correct damage in the long aileron push control rods on all Diamond Models H-36 “Dimona”, HK 36 R “Super Dimona”, HK 36 TC, HK 36 TS, HK 36 TTC, HK 36 TTC-ECO, HK 36 TTC-ECO (Restricted Category), and HK 36 TTS sailplanes. This AD currently requires you to inspect the long aileron push rods in both wings for damage and modify the push rods.

What Has Happened To Necessitate Further AD Action?

The Model H-36 “Dimona” sailplane has a different flight control system than the rest of the affected sailplanes. This particular flight control system makes it impossible for the Model H-36 “Dimona” sailplanes to be in compliance with AD 2002-15-01.

Consequently, FAA sees a need to clarify AD 2002-15-01 to assure that every owner/operator of the affected sailplanes is able to comply with the AD action. This is possible by removing the Model H-36 “Dimona” sailplanes from the AD applicability.

Correction of Publication

What Is the Purpose of This Document?

This document clarifies AD 2002-15-01 by removing the Model H-36 “Dimona” sailplanes from the AD applicability and adds the amendment to section 39.13 of the Federal Aviation Regulations (14 CFR 39.13).

Is It Necessary To Seek Public Input?

Since this action only clarifies the intent of the compliance time, it has no adverse economic impact and imposes no additional burden on any person than would have been necessary to comply with AD 2000-23-01. Therefore, FAA has determined that prior notice and opportunity for public comment are unnecessary.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2002-15-01, Amendment 39-12829 (67 FR 47680, July 22, 2002), and by adding a new AD to read as follows:

2002-15-01 R1 Diamond Aircraft Industries Gmbh: Amendment 39-12870; Docket No. 2002-CE-11-AD; Revises AD 2002-15-01, Amendment 39-12829.

(a) What sailplanes are affected by this AD? This AD affects Models HK 36 R “Super Dimona”, HK 36 TC, HK 36 TS, HK 36 TTC, HK 36 TTC-ECO, HK 36 TTC-ECO (Restricted Category), and HK 36 TTS sailplanes, all serial numbers, that are certificated in any category.

(b) Who must comply with this AD? Anyone who wishes to operate any of the sailplanes identified in paragraph (a) of this AD must comply with this AD.

(c) What problem does this AD address? The actions specified by this AD are intended to detect and correct damage in the long aileron push control rods, which could result in failure of the aileron push rods and decreased control. Such failure could lead to aeroelastic flutter.

(d) What actions must I accomplish to address this problem? To address this problem, you must accomplish the following:

Actions | Compliance | Procedures
(1) Inspect the long aileron push rods in both wings | Within the next 10 hours time-in-service (TIS) after September 3, 2002 (the effective date of this AD), unless already accomplished | In accordance with paragraph 1.8 Measures of Diamond Aircraft Industries GmbH Service Bulletin No. MSB36-72, dated Febraury 1, 2002; Diamond Aircraft Industries GmbH Work Instruction No. WI-MSB36-72, dated February 1, 2002; and the applicable sailplane maintenance manual.
(2) If any long aileron push rods are found damaged during the inspection required in paragraph (d)(1) of this AD, modify the push rods | Before further flight, after the inspection required in paragraph (d)(1) of this AD, unless already accomplished | In accordance with paragraph 1.8 Measures of Diamond Aircraft Industries GmbH Service Bulletin No. MSB36-72, dated Febraury 1, 2002; Diamond Aircraft Industries GmbH Work Instruction No. WI-MSB36-72, dated February 1, 2002; and the applicable sailplane maintenance manual.
(3) If no damage is found during the inspection required in paragraph (d)(1), modify the push rods | Within the next 25 hours TIS after September 3, 2002 (the effective date of this AD), unless already accomplished | In accordance with paragraph 1.8 Measures of Diamond Aircraft Industries GmbH Service Bulletin No. MSB36-72, dated February 1, 2002; Diamond Aircraft Industries GmbH Work Instruction No. WI-MSB36-72, dated February 1, 2002; and the applicable sailplane maintenance manual.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, FAA, Small Airplane Directorate, 901 Locust, Room 301, Kansas City, Missouri 64106; telephone: (816) 329-4144; facsimile: (816) 329-4090.

(g) What if I need to fly the sailplane to another location to comply with this AD? The FAA can issue a special flight permit under sections 21.197 and 21.199 of the Federal Aviation Regulations (14 CFR 21.197 and 21.199) to operate your sailplane to a location where you can accomplish the requirements of this AD.

(h) Are any service bulletins incorporated into this AD by reference? Actions required by this AD must be done in accordance with Diamond Aircraft Industries GmbH Service Bulletin No. MSB36-72, dated February 1, 2002; and Diamond Aircraft Industries GmbH Work Instruction No. WI-MSB36-72, dated February 1, 2002. The Director of the Federal Register approved this incorporation by reference under 5 U.S.C. 552(a) and 1 CFR part 51. You may get copies from Diamond Aircraft Industries GmbH, N.A. Otto-Strasse 5, A-2700 Wiener Neistadt, Austria; telephone: 43 2622 26 700; facsimile: 43 2622 26 780. You may view copies at the FAA, Central Region, Office of the Regional Counsel, 901 Locust, Room 506, Kansas City, Missouri, or at the Office of the Federal Register, 800 North Capitol Street, NW., suite 700, Washington, DC.

Note 2: The subject of this AD is addressed in Austrian AD No. 111, dated February 26, 2002.

(i) Does this AD action affect any existing AD actions? This amendment revises 2002-15-01, Amendment 39-12829 (67 FR 47680, July 22, 2002) .

(j) When does this amendment become effective? This amendment becomes effective on September 3, 2002.

Issued in Kansas City, Missouri, on August 21, 2002.
David R. Showers,
Acting Manager, Small Airplane Directorate, Aircraft Certification Service.

[FR Doc. 02-22129 Filed 8-29-02; 8:45 am]

BILLING CODE 4910-13-P